ENVIRONMENTAL PROTECTION AGENCY

[OPPT-2002-0055; FRL-7199-9]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSC, EPA is required to publish a notice of receipt of a premanufacture notice (PMN) or an application for a test marketing exemption (TME), and to publish periodic status reports on the chemicals under review and the receipt of notices of commencement to manufacture those chemicals. This status report, which covers the period from July 23, 2002 to August 23, 2002, consists of the PMNs and TMEs, both pending or expired, and the notices of commencement to manufacture a new chemical that the Agency has received under TSCA section 5 during this time period.

DATES: Comments identified by the docket ID number OPPT-2002-0055 and the specific PMN number or TME number, must be received on or before October 11, 2002.

ADDRESSES: Comments may be submitted electronically, by mail, or through hand delivery/courier. Follow the detailed instructions as provided in Unit I. of the SUPPLEMENTARY INFORMATION.

FOR FURTHER INFORMATION CONTACT: Barbara Cunningham, Acting Director, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does This Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Copies of This Document and Other Related Information?

1. Docket. EPA has established an official public docket for this action under docket identification (ID) number OPPT-2002-0055. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket ID number and specific PMN number or TME number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e- mail to submit CBI or information protected by statute.

1. Electronically. If you submit an electronic comment as prescribed in this unit, EPA recommends that you include your name, mailing address, and an e- mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select“ search,” and then key in docket ID number-- OPPT-2002-0055. The system is an“ anonymous access” system, which means EPA will not know your identity, e-mail address, or other contact information unless you provide it in the body of your comment.

ii. E-mail. Comments may be sent by e-mail to oppt.ncic@epa.gov, Attention: Docket ID Number OPPT-2002-0055 and PMN Number or TME Number. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Document Control Office (7407M), Office of Pollution Prevention and Toxics (OPPT), Environmental Protection Agency, 1200 Pennsylvania Ave., NW., Washington, DC 20460-0001.

3. By hand delivery or courier. Deliver your comments to: OPPT Document Control Office (DCO) in EPA East Building Rm. 6428, 1201 Constitution Ave., NW., Washington, DC. Attention: Docket ID Number OPPT-2002-0055 and PMN Number or TME Number. The DCO is open from 8 a.m. to 4 p.m., Monday through Friday, excluding legal holidays. The telephone number for the DCO is (202) 564-8930.

D. How Should I Submit CBI To the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the technical person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket ID number assigned to this action and the specific PMN number you are commenting on in the subject line on the first page of your response. You may also provide the name, date, and Federal Register citation.

II. Why is EPA Taking This Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from July 23, 2002 to August 23, 2002, consists of the PMNs and TMEs, both pending or expired, and the notices of commencement to manufacture a new chemical that the Agency has received under TSCA section 5 during this time period.

III. Receipt and Status Report for PMNs

This status report identifies the PMNs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 114 Premanufacture Notices Received From: 07/23/02 to 08/23/02
Case No. | Received Date | Projected Notice End Date | Manufacturer/Importer | Use | Chemical
P-02-0844 | 07/23/02 | 10/21/02 | Solutia Inc. | (S) Resin for paints and coatings | (G) Hydroxyfunctional acrylic copolymer
P-02-0845 | 07/23/02 | 10/21/02 | CBI | (S) Ingredient for use in fragrances for soaps, detergents, cleaners and other household products | (G) Plant extract
P-02-0846 | 07/23/02 | 10/21/02 | Geo Specialty Chemicals, Inc. | (G) Dispersants | (G) Sulfonated naphthalene condensate, calcium salt
P-02-0847 | 07/23/02 | 10/21/02 | Geo Specialty Chemicals, Inc. | (G) Dispersants | (G) Sulfonated naphthalene condensate, sodium salt
P-02-0848 | 07/23/02 | 10/21/02 | Dupont Dow Elastomers, L.L.C. | (G) Molding resin | (G) Fluoroalkene copolymer
P-02-0849 | 07/23/02 | 10/21/02 | Dupont Dow Elastomers, L.L.C. | (G) Molding resin | (G) Fluoroalkene copolymer
P-02-0850 | 07/23/02 | 10/21/02 | Dupont Dow Elastomers, L.L.C. | (G) Molding resin | (G) Fluoroalkene copolymer
P-02-0851 | 07/23/02 | 10/21/02 | CBI | (G) Intermediate for chemical used as fertilizer dust control coating and agronomic enhancement product | (G) Maleic acid salt copolymer
P-02-0852 | 07/23/02 | 10/21/02 | CIBA Specialty Chemicals Corporation | (S) Photoacid generator for resists in semiconductor and display mfg. | (G) Camphorsulfonate
P-02-0853 | 07/23/02 | 10/21/02 | CBI | (G) Fertilizer dust control coating and agronomic enhancement product | (G) Maleic acid salt copolymer
P-02-0854 | 07/24/02 | 10/22/02 | CBI | (G) Component of coating with open use | (G) Poly (phosphate and carboxylate) ester
P-02-0855 | 07/24/02 | 10/22/02 | CBI | (G) Component of coating with open use | (G) Poly (phosphate and carboxylate) ester
P-02-0856 | 07/24/02 | 10/22/02 | CBI | (G) Component of coating with open use | (G) Poly (phosphate and carboxylate) ester
P-02-0857 | 07/24/02 | 10/22/02 | CBI | (G) Component of coating with open use | (G) Poly (phosphate and carboxylate) ester
P-02-0858 | 07/24/02 | 10/22/02 | CBI | (G) Component of coating with open use | (G) Poly (phosphate and carboxylate) ester
P-02-0859 | 07/24/02 | 10/22/02 | CBI | (G) Component of coating with open use | (G) Poly (phosphate and carboxylate) ester
P-02-0860 | 07/25/02 | 10/23/02 | UOP LLC | (G) Intermediate for catalyst/catalyst support for petrochemical and hydrocarbon processing | (G) Silicoaluminophosphate with template
P-02-0861 | 07/25/02 | 10/23/02 | UOP LLC | (S) Intermediate for catalyst/catalyst support for petrochemical processes | (G) Silico-titano-aluminophosphates
P-02-0862 | 07/25/02 | 10/23/02 | CBI | (S) Moisture cure coating | (G) Aliphatic polyester polyurethane polymer
P-02-0863 | 07/25/02 | 10/23/02 | 3M | (S) Chemical intermediate | (G) Fluoropolymer
P-02-0864 | 07/25/02 | 10/23/02 | 3M | (S) Chemical intermediate | (G) Fluoropolymeric sulfonic acid
P-02-0865 | 07/25/02 | 10/23/02 | 3M | (S) Chemical intermediate | (G) Perfluoro alkoxy acid fluoride derivative
P-02-0866 | 07/25/02 | 10/23/02 | Xerox Corporation | (G) Destructive use(site limited intermediate) | (G) Substituted anthraquinone
P-02-0867 | 07/25/02 | 10/23/02 | Xerox Corporation | (G) Open, non-dispersive use as a constituent in solid,crayon like inks for computer printers | (G) Substituted anthraquinone
P-02-0868 | 07/25/02 | 10/23/02 | Xerox Corporation | (G) Destructive use(site limited intermediate) | (G) Substituted anthraquinone
P-02-0869 | 07/25/02 | 10/23/02 | Xerox Corporation | (G) Destructive use(site limited intermediate) | (G) Substituted anthraquinone
P-02-0870 | 07/25/02 | 10/23/02 | 3M | (G) | (G) Perfluorinated difunctional acid fluoride
P-02-0871 | 07/25/02 | 10/23/02 | 3M | (S) Chemical intermediate | (G) Fluoropolymeric sulfonic acid salt
P-02-0872 | 07/25/02 | 10/23/02 | Ashland Inc. | (G) Open, dispersive-used in molding operations | (G) Unsaturated polyester
P-02-0873 | 07/26/02 | 10/24/02 | Ashland Inc., environmental health and safety | (G) Polyurethane prepolymer-moisture curable adhesive formulation for wood bonding. | (G) Polyurethane prepolymer
P-02-0874 | 07/26/02 | 10/24/02 | CBI | (S) Component in an industrial coating. | (S) Hexanedioic acid, polymer with 2,2-dimethyl-1,3-propanediol, 1,2-ethanediamine, 1,6-hexanediol, 3-hydroxy-2-(hydroxymethyl)-2-methylpropanoic acid and 1,1′-methylenebis[4-isocyanatocyclohexane], compound with nu,nu-diethylethanamine
P-02-0875 | 07/26/02 | 10/24/02 | Solutia Inc. | (S) Wash primer for metal protection | (G) Modified phenoxy resin dispersion
P-02-0876 | 07/26/02 | 10/24/02 | Xerox Corporation | (G) Destructive use (site limited intermediate) | (G) Pyridone
P-02-0877 | 07/26/02 | 10/24/02 | Xerox Corporation | (G) Open, non-dispersive use as a constituent in solid, crayon like inks for computer printers | (G) Substituted pyridone
P-02-0878 | 07/26/02 | 10/24/02 | Xerox Corporation | (G) Destructive use (site limited intermediate) | (G) Dimer ester
P-02-0879 | 07/30/02 | 10/28/02 | CBI | (G) An open non-dispersive use | (G) Alicyclic hydrocarbon resin
P-02-0880 | 07/30/02 | 10/28/02 | CBI | (G) Encapsulant curative for open, non-dispersive use | (G) Castor oil, mixed esters with carboxylic acid anhydrides
P-02-0881 | 07/30/02 | 10/28/02 | CBI | (G) Open, non-dispersive use. | (G) Silated acrylic resin
P-02-0882 | 07/29/02 | 10/27/02 | CBI | (S) Color retention/laundry detergent; wrinkle reduction/fabric spray | (G) Aminosilicone polyether copolymer
P-02-0883 | 07/30/02 | 10/28/02 | 3M Company | (S) Polymer additive | (G) Fluorochemical polymer
P-02-0884 | 07/30/02 | 10/28/02 | 3M Company | (S) Intermediate | (G) Alkylethoxylate derivative
P-02-0885 | 08/02/02 | 10/31/02 | CBI | (G) Raw material for manufacturing of photosensitive material | (G) Disubstituted cresol
P-02-0886 | 08/02/02 | 10/31/02 | CBI | (G) Open, non-dispersive use in energy production | (G) Imidazoline derivative, reaction products with polybasic acid
P-02-0887 | 08/02/02 | 10/31/02 | CBI | (G) Raw material for manufacturing of photoimaging film | (G) Phosphine oxide derivative
P-02-0888 | 08/02/02 | 10/31/02 | CBI | (G) Polishing compound | (G) Ammonium amps homopolymer
P-02-0889 | 08/02/02 | 10/31/02 | Dainippon ink and Chemicals, Inc. | (S) Binder for general coatings | (S) Formaldehyde, polymer with 6-phenyl-1,3,5-triazine-2,4-diamine, isobutylated
P-02-0890 | 08/02/02 | 10/31/02 | BASF Corporation | (G) Additive for adhesive formulation | (G) Alkoxylated aliphatic alcohol
P-02-0891 | 08/06/02 | 11/04/02 | 3M Company | (S) Cure catalyst | (S) Phosphonium, triphenyl(phenylmethyl)-, salt with 1,1,2,2,3,3,4,4,4-nonafluoro-nu-methyl-1-butanesulfonamide (1:1)
P-02-0892 | 08/07/02 | 11/05/02 | CBI | (G) Flame/fire retardant - open, non-dispersive use | (G) Phosphoric acid monoamine salt
P-02-0893 | 08/07/02 | 11/05/02 | CBI | (G) Inkjet ink | (G) Ammonium sodium salt of substituted copper phthalocyanine derivative
P-02-0894 | 08/09/02 | 11/07/02 | Aoc L.L.C. | (S) Polyester component for gelcoat resin for spray up of fiberglass reinforced and non-reinforced plastics parts | (S) 1,3-benzenedicarboxylic acid, polymer with 2,2-dimethyl-1,3-propanediol, 2-ethyl-2-(hydroxymethyl)-1,3-propanediol and 2,5-furandione
P-02-0895 | 08/09/02 | 11/07/02 | Reichhold, Inc. | (S) Binder of general coatings | (G) Amine salt of carboxylated epoxy ester polymer, with fatty acids and alkyloxylated alkyl ester.
P-02-0896 | 08/09/02 | 11/07/02 | CBI | (G) Chemical intermediate | (G) Polyester polyol
P-02-0897 | 08/09/02 | 11/07/02 | CBI | (G) Paint additive | (G) Polyurethane
P-02-0898 | 08/09/02 | 11/07/02 | CBI | (S) Printing ink resin | (G) Ester of acid modified hydrocarbon resin
P-02-0899 | 08/09/02 | 11/07/02 | CBI | (S) Printing ink resin | (G) Ester of acid modified hydrocarbon resin
P-02-0900 | 08/09/02 | 11/07/02 | CBI | (S) Printing ink resin | (G) Ester of acid modified hydrocarbon resin
P-02-0901 | 08/09/02 | 11/07/02 | CBI | (S) Printing ink resin | (G) Ester of acid modified hydrocarbon resin
P-02-0902 | 08/09/02 | 11/07/02 | CBI | (S) Printing ink resin | (G) Ester of acid modified hydrocarbon resin
P-02-0903 | 08/09/02 | 11/07/02 | CBI | (S) Printing ink resin | (G) Ester of acid modified hydrocarbon resin
P-02-0904 | 08/12/02 | 11/10/02 | CBI | (G) Component of an odorant composition for highly dispersive applications | (G) Substituted alkenone
P-02-0905 | 08/12/02 | 11/10/02 | E.I. Dupont De Nemours and Company, Inc. | (G) Intermediate-closed non-dispersive use | (G) Aromatic polyester polyol
P-02-0906 | 08/12/02 | 11/10/02 | E.I. Dupont De Nemours and Company, Inc. | (G) Intermediate-closed non-dispersive use | (G) Aromatic polyester polyol
P-02-0907 | 08/12/02 | 11/10/02 | E.I. Dupont De Nemours and Company, Inc. | (G) Intermediate-closed non-dispersive use | (G) Aromatic polyester polyol
P-02-0908 | 08/12/02 | 11/10/02 | E.I. Dupont De Nemours and Company, Inc. | (G) Intermediate-closed non-dispersive use | (G) Aromatic polyester polyol
P-02-0909 | 08/12/02 | 11/10/02 | E.I. Dupont De Nemours and Company, Inc. | (G) Intermediate-closed non-dispersive use | (G) Aromatic polyester polyol
P-02-0910 | 08/12/02 | 11/10/02 | E.I. Dupont De Nemours and Company, Inc. | (G) Intermediate-closed non-dispersive use | (G) Aromatic polyester polyol
P-02-0911 | 08/09/02 | 11/07/02 | CIBA Specialty Chemicals Corporation USA - additives | (S) Photoacid generator for resists in semiconductor and display mfg. | (G) Aromatic compound
P-02-0912 | 08/13/02 | 11/11/02 | CBI | (G) Raw material | (G) Di-substituted cyclic alkane
P-02-0913 | 08/14/02 | 11/12/02 | UBE America Inc. | (S) Raw material for polyurethane; raw material for acrylates/methacrylates | (S) 1,12-dodecanediol*
P-02-0914 | 08/13/02 | 11/11/02 | CBI | (G) Photoresist additive [open/non-dispersive use] | (G) Acrylic polymer
P-02-0915 | 08/13/02 | 11/11/02 | CBI | (G) Photoresist additive [open/non-dispersive use] | (G) Acrylic polymer
P-02-0916 | 08/14/02 | 11/12/02 | Reichhold, Inc. | (S) Intermediate | (G) Vegetable fatty acids, polymer with peroxide, alkyl acrylate, alkeneoic acid and alkenylbenzene.
P-02-0917 | 08/14/02 | 11/12/02 | Reichhold, Inc. | (S) Stain vehicle | (G) Vegetable fatty acids, polymer with peroxide, alkyl acrylate, cyclic carboxylic acid, alkeneoic acid, tetra hydroxy alkane and alkenylbenzene.
P-02-0918 | 08/14/02 | 11/12/02 | Reichhold, Inc. | (S) Intermediate | (G) Vegetable fatty acids, polymer with cyclic carboxylic acid and tetra hydroxy alkane.
P-02-0919 | 08/15/02 | 11/13/02 | Ashland Inc. | (G) Open, dispersive-used in molding operations | (G) Unsaturated polyester
P-02-0920 | 08/15/02 | 11/13/02 | 3M | (S) Additive | (G) Fluorochemical ester
P-02-0921 | 08/15/02 | 11/13/02 | CBI | (G) Open, non-dispersive (polyurethane) | (G) Aliphatic polyester-polyether polyurethane
P-02-0922 | 08/15/02 | 11/13/02 | CBI | (G) Open, non-dispersive (resin) | (G) Urethane acrylate dispersion
P-02-0923 | 08/19/02 | 11/17/02 | CBI | (G) Polymeric admixture for concrete | (G) Essentially linear hydrocarbon polymer functionalized with alkylamidoammonium and alkylamidosulfonato groups
P-02-0924 | 08/19/02 | 11/17/02 | R.T. Vanderbilt Compnay, Inc. | (S) Accelerator for dry rubber | (S) Tellurium, tetrakis[bis(2-methylpropyl)carbamodithioato-kappa s, kappa s']-
P-02-0925 | 08/19/02 | 11/17/02 | R.T. Vanderbilt Compnay, Inc. | (S) Accelerator for dry rubber | (S) Tellurium, tetrakis(dibutylcarbamothioato-kappa s, kappa s')-
P-02-0926 | 08/19/02 | 11/17/02 | R.T. Vanderbilt Compnay, Inc. | (S) Accelerator for dry rubber | (G) Tellurium dipentyldithiocarbamate
P-02-0927 | 08/20/02 | 11/18/02 | CBI | (G) Secondary insulation, molding compounds | (G) Benzophenone silyl ether
P-02-0928 | 08/19/02 | 11/17/02 | CBI | (G) Raw material | (G) Substituted-phenyl-alkyl-heteropolycycle
P-02-0929 | 08/19/02 | 11/17/02 | CBI | (G) Raw material | (G) Disubstituted-phenyl-alkyl-heteromonocycle
P-02-0930 | 08/20/02 | 11/18/02 | CBI | (G) Lubricant additive | (G) Lithium sulfonate
P-02-0931 | 08/20/02 | 11/18/02 | CBI | (G) Lubricant additive | (G) Sodium sulfonate
P-02-0932 | 08/20/02 | 11/18/02 | CBI | (G) Lubricant additive | (G) Potassium sulfonate
P-02-0933 | 08/20/02 | 11/18/02 | CBI | (G) Lubricant additive | (G) Calcium sulfonate
P-02-0934 | 08/20/02 | 11/18/02 | CBI | (G) Lubricant additive | (G) Magnesium sulfonate
P-02-0935 | 08/20/02 | 11/18/02 | CBI | (G) Water reducer in concrete | (G) Polyglycolether-polycarboxylate
P-02-0936 | 08/20/02 | 11/18/02 | CBI | (G) Intermediate for lubricant detergents | (G) Alkylbenzene sulfonic acid
P-02-0937 | 08/21/02 | 11/19/02 | CBI | (G) Ingredients for use in consumer products: highly dispersive use | (G) Alkanone oxime
P-02-0938 | 08/22/02 | 11/20/02 | Reichhold, Inc. | (G) Industrial ans architectual coatings | (G) Fatty acids, polymer with peroxide, alicyclic alcohol, alkyl acrylate, cyclic carboxylic acid, alkeneoic acid, terta hydroxy alkane, alkenylbenzene and glycol.
P-02-0939 | 08/22/02 | 11/20/02 | Reichhold, Inc. | (S) Intermediate | (G) Fatty acids, polymer with peroxide, alkyl acyylate, alkeneoic acid and alkenylbenzene
P-02-0940 | 08/22/02 | 11/20/02 | CBI | (G) Gellant for liquids | (G) Fatty acids, C18-unsaturated, dimers, hydrogenated, polymers ethylenediamine and polyoxyalkylenamines.
P-02-0941 | 08/22/02 | 11/20/02 | CBI | (G) Gellant for liquids | (G) Fatty acids, C18-unsaturated, dimers, hydrogenated, polymers with ethylenediamine and polyoxyalkylenamines.
P-02-0942 | 08/22/02 | 11/20/02 | CBI | (G) Gellant for liquids | (G) Fatty acids, C18-unsaturated, dimers, polymers with ethylenediamine and polyoxyalkylenamines.
P-02-0943 | 08/22/02 | 11/20/02 | CBI | (G) Gellant for liquids | (G) Fatty acids, C18-unsaturated, dimers, polymers with ethylenediamine and polyoxyalkylenamines.
P-02-0944 | 08/22/02 | 11/20/02 | CBI | (G) Gellant for liquids | (G) Fatty acids, C18-unsaturated, dimers, polymers with ethylenediamine and polyoxyalkylenamines.
P-02-0945 | 08/22/02 | 11/20/02 | CBI | (G) Gellant for liquids | (G) Fatty acids C18-unsaturated, dimers, hydrogenated, polymers with ethylenediamine and polyoxyalkyleneamines.
P-02-0946 | 08/22/02 | 11/20/02 | CBI | (S) Reactive dye for textile | (G) Substituted benzoic acid, alkali salt
P-02-0947 | 08/22/02 | 11/20/02 | CBI | (G) Industrial fillers | (G) Chemically treated silica
P-02-0948 | 08/22/02 | 11/20/02 | CBI | (G) Industrial fillers | (G) Chemically treated silica
P-02-0949 | 08/22/02 | 11/20/02 | Reichhold, Inc. | (S) Intermediate | (G) Fatty acids, polymer with alicyclic alcohol, cyclic carboxylic acid, tetra hydroxy alkane and glycol.
P-02-0950 | 08/22/02 | 11/20/02 | Dupont Company | (G) Packaging film and adhesive film | (G) Polyester copolymer
P-02-0951 | 08/22/02 | 11/20/02 | Dupont Company | (G) Packaging film and adhesive film | (G) Polyester copolymer
P-02-0952 | 08/22/02 | 11/20/02 | Dupont Company | (G) Packaging film and adhesive film | (G) Polyester copolymer
P-02-0953 | 08/23/02 | 11/21/02 | Stepan Company | (S) Additive for polyurethane flexible foams | (S) 1,3-isobenzofurandione, polymer with oxybis[propanol]
P-02-0954 | 08/23/02 | 11/21/02 | The Goodyear Tire and Rubber Company | (S) Polymerization catalyst | (G) Metallic diethylglycol ethylether complex
P-02-0955 | 08/23/02 | 11/21/02 | The Goodyear Tire and Rubber Company | (S) Chemical intermediate foe chemical synthesis | (G) Barium alcoholate
P-02-0956 | 08/23/02 | 11/21/02 | Cook Composites and Polymers Co. | (G) Additive for plastic resins | (G) 1,3-pronanediol, 2-ethyl-2-(hyroxymethyl)-, polymer with (chloromethyl) oxirane, 2-alkykl-2-propanoate

In table II, EPA provides the following information (to the extent that such information is not claimed as CBI) on the Notices of Commencement to manufacture received:

II. 45 Notices of Commencement From: 07/23/02 to 08/23/02
Case No. | Received Date | Commencement/Import Date | Chemical
P-01-0504 | 07/23/02 | 07/10/02 | (G) Polyurethane prepolymer;polyurethane hot melt adhesive
P-01-0584 | 08/01/02 | 07/11/02 | (G) Flouroacrylate copolymer
P-01-0763 | 08/02/02 | 07/31/02 | (G) Functionalized amine polymer
P-01-0792 | 07/31/02 | 07/16/02 | (G) Surface modified magnesium hydroxide
P-01-0856 | 08/07/02 | 07/23/02 | (S) Cashew, nutshell liquid, ethoxylated
P-02-0040 | 07/31/02 | 07/23/02 | (G) Modified polycarbonate
P-02-0041 | 07/23/02 | 07/08/02 | (G) Modified acrylic copolymer
P-02-0053 | 07/23/02 | 07/10/02 | (G) Neutralized acrylic copolymer
P-02-0061 | 07/30/02 | 06/30/02 | (S) Decanoic acid, 3-[[6-deoxy-2-o-(6-deoxy-.alpha.-l-mannopyranosyl)-.alpha.-l-mannaopyranosyl]oxy]-, 1-(carboxymethyl)octyl ester, mixture with 1-(carboxymethyl)octyl 3-[(6-deoxy-.alpha.-l-mannopyranousyl)oxy]decanoate
P-02-0106 | 08/19/02 | 08/08/02 | (G) Amino alkanol ester
P-02-0156 | 07/24/02 | 07/16/02 | (G) Metallic dimethacrylate
P-02-0166 | 08/16/02 | 08/01/02 | (G) Amino polyester
P-02-0175 | 08/16/02 | 08/01/02 | (G) Amine-accelerated, unsaturated polyester resin
P-02-0214 | 07/25/02 | 07/10/02 | (S) Lithium potassium titanium oxide
P-02-0220 | 07/23/02 | 07/12/02 | (G) Chemical intermediate
P-02-0226 | 07/23/02 | 07/01/02 | (G) Substituted phenol derivative
P-02-0232 | 07/23/02 | 07/03/02 | (G) Dehydrated castor oil modified expoxyester
P-02-0271 | 08/16/02 | 08/06/02 | (G) Vinylpyrrolidinone-vinylimidazole-copolymer
P-02-0279 | 07/23/02 | 07/01/02 | (G) Phenolic resin
P-02-0298 | 08/13/02 | 07/22/02 | (G) Glycerides, animal, reaction products with polyamines
P-02-0304 | 07/25/02 | 06/27/02 | (S) 1,12-dodecanediol
P-02-0316 | 07/23/02 | 07/02/02 | (G) Branched phenolic hardener
P-02-0332 | 07/23/02 | 06/28/02 | (G) Epoxy siloxane resin
P-02-0333 | 08/06/02 | 07/05/02 | (S) 1,3-isobenzofurandione, hexahydro-, polymer with 2,2-dimethyl-1,3-propanediol, 2-ethyl-2-(hydroxymethyl)-1,3-propanediol, 2,5-furandione and 1,2-propanediol, 2-ethylhexyl ester
P-02-0363 | 07/31/02 | 07/24/02 | (G) Polyalkoxylated aromatic chromophore
P-02-0415 | 08/20/02 | 08/01/02 | (G) Alkylene(diaryl phosphate)
P-02-0420 | 08/08/02 | 07/01/02 | (G) Modified starch
P-02-0435 | 07/23/02 | 07/09/02 | (G) Unsaturated polyester resin
P-02-0437 | 07/23/02 | 07/18/02 | (G) Siloxanes and silicones, d-me, 3-hydroxypropyl me, ethoxylated propoxylated benzoate ester
P-02-0459 | 07/23/02 | 06/24/02 | (G) Phosphoric acid ester
P-02-0460 | 07/23/02 | 07/08/02 | (S) Fatty acids, C16-18 and C18-unsaturated, branched and linear, mixed esters with pentaerythritol and tall-oil fatty acids
P-02-0485 | 08/09/02 | 07/30/02 | (G) Substituted mercaptan
P-02-0487 | 07/31/02 | 07/19/02 | (G) Vinyl polymer emulsion
P-02-0489 | 08/15/02 | 07/16/02 | (G) Acrylic copolymer
P-02-0491 | 08/14/02 | 08/02/02 | (G) Aromatic polyalkoxylate
P-02-0496 | 08/01/02 | 07/08/02 | (G) Acrylic resin
P-02-0500 | 07/23/02 | 07/10/02 | (S) Fatty acids, C16-18 and C18-unsaturated, branched and linear, polymers with glycerol, maleic anhydride and rosin
P-02-0512 | 08/02/02 | 07/08/02 | (S) Amides, from ammonia-ethanolamine reaction by-products and branched and linear C16-18 and C18-usatd. fatty acids
P-02-0520 | 07/23/02 | 07/12/02 | (G) Urethane prepolymer
P-02-0531 | 08/07/02 | 07/10/02 | (S) Fatty acids, C16-18 C18-unsaturated, branched and linear, esters with trimethylolpropane
P-02-0543 | 08/07/02 | 07/15/02 | (S) Fatty acids, C16-18 and C18-unsaturated, branched and linear, diesters with polyethylene glycol
P-96-0965 | 07/24/02 | 06/11/02 | (G) Brominated phthalate diol
P-98-0476 | 08/08/02 | 07/28/02 | (G) Phenolic modified ester of modified rosin and fatty acid
P-98-0801 | 07/30/02 | 02/21/02 | (G) Isocyanate-fuctionalized polyurethane polymer
P-98-1117 | 08/20/02 | 08/05/02 | (G) 2-propenoic acid, 2-methyl-, monoester with 1,2-propanediol, polymer with ethenyloxoheteromenocycle and 2-propenoic acid

List of Subjects

Environmental protection, Chemicals, Premanufacturer notices.

Dated: August 30, 2002.
Sandra R. Wilkins,
Acting Director, Information Management Division, Office of Pollution Prevention and Toxics.

[FR Doc. 02-23087 Filed 9-10-02; 8:45 am]

BILLING CODE 6560-50-S